DEPARTMENT OF HOMELAND SECURITY

Agency Information Collection Activities; Proposals, Submissions, and Approvals: CIS Ombudsman Case Problem Submission Worksheet, DHS Form 7001 and Virtual Ombudsman System

AGENCY: Office of the Citizenship and Immigration Service Ombudsman, DHS.

ACTION: 60-Day Notice and request for comments; Revision of an existing information collection, 1601-0004.

SUMMARY: The Department of Homeland Security, Office of the Citizenship and Immigration Service Ombudsman, will submit the following Information Collection Request (ICR) to the Office of Management and Budget (OMB) for review and clearance in accordance with the Paperwork Reduction Act of 1995 (Pub. L. 104-13, 44 U.S.C. Chapter 35).

DATES: Comments are encouraged and will be accepted until June 28, 2010. This process is conducted in accordance with 5 CFR 1320.1.

ADDRESSES: Written comments and questions about this Information Collection Request should be forwarded to Office of the Citizenship and Immigration Services Ombudsman, DHS, Attn.: Director of Communications, Mail Stop 1225, Washington, DC 20528-1225. Comments may also be submitted to DHA via facsimile to 202-272-8352, 202-357-0042 or via e-mail at rfs.regs@dhs.gov or cisombudsman@dhs.gov.

SUPPLEMENTARY INFORMATION: The Department of Homeland Security would like to revise the currently approved collection of information to migrate from a paper based only collection process to a collection process that allows the submitter to provide the information by a paper document or electronically. The information is currently collected via a Worksheet designated as DHS Form 7001.

The CIS Ombudsman is an independent office that reports directly to the Deputy Secretary of Homeland Security. The system will collect and maintain records of correspondence received from individuals, employers, and designated representatives. In accordance with the Privacy Act of 1974, DHS is issuing a system of records notice for the CISOMB Virtual Ombudsman records. This record system will allow CISOMB to collect the same information historically collected by a paper copy of DHS Form 7001. CISOMB intends to continue to receive and process correspondence received from individuals, employers, and their designated representatives in order to: (1) Assist individuals and employers in resolving problems with U.S. Citizenship and Immigration Services (USCIS); (2) identify areas in which individuals and employers have problems in dealing with USCIS; and (3) to the extent possible, propose changes to mitigate problems as mandated by 6 U.S.C. 272. This new system will be included in the Department's inventory of record systems. CISOMB will continue to receive cases through DHS Form 7001, Case Problem Submission Worksheet and Supporting Statement Case Problem Submission Form, which is posted on the DHS CISOMB Internet Web site at http://www.dhs.gov as a fillable PDF form; and will also offer the submitter an option to provide the information via CISOMB's online form 7001 (same title) that is transmitted electronically with any relevant documentation to CISOMB for further processing. CISOMB reviews all information for completeness and scans all documentation into the CISOMB account within the Internet Quorum/Enterprise Correspondence Tracking (IQ/ECT) system as a case record and forwards electronically, as appropriate, along with any attachments, to USCIS for further action. Currently, CISOMB converts every case problem submission to Adobe.pdf format for resolution.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of the Citizenship and Immigration Services Ombudsman, DHS.

Title: CIS Ombudsman Case Problem Submission Worksheet.

OMB Number: 1601-0004.

Frequency: One Time Response.

Affected Public: Individuals or households.

Number of Respondents: 2,600.

Estimated Time per Respondent: 1 hour.

Total Burden Hours: 2,600 annual hours.

Dated: April 11, 2010.
Richard A. Spires,
Chief Information Officer.

[FR Doc. 2010-9960 Filed 4-28-10; 8:45 am]

BILLING CODE 9110-9B-P